DEPARTMENT OF HOMELAND SECURITY

[Docket No. DHS-2016-0007]

Office of the Chief Information Officer; Homeland Security Information Network Advisory Committee Meeting Notice

AGENCY: Information Sharing Environment (ISEO)/Office of the Chief Information Officer (OCIO), DHS.

ACTION: Committee Management; Notice of Federal Advisory Committee Meeting.

SUMMARY: The Homeland Security Information Network Advisory Council (HSINAC) calls a virtual meeting of its membership to receive all relevant information and facilitate development of recommendations to the HSIN Program Management Office (PMO) regarding the following major issue areas: (1) Programmatic business process enhancements for achieving enhanced requirements management and governance for HSIN's users, (2) continuous system protection through advanced security testing; and (3) HSIN's infrastructure and support model enhancements through hosting and application services.

DATES: The HSINAC will meet Tuesday, February 16, 2016 from 1:00-2:30 p.m. EST via conference call and HSIN Connect, an online web-conferencing tool, both of which will be made available to members of the general public. Please note that the meeting may end early if the committee has completed its business.

ADDRESSES: The meeting will be held virtually via HSIN Connect, an online web-conferencing tool at https://share.dhs.gov/hsinac, and available via Teleconference at 1-855-852-7677 Conference Pin: 9999-6207-5505 for all public audience members. To access the web conferencing tool, go to https://share.dhs.gov/hsinac, click on “enter as a guest,” type in your name as a guest, and click “submit.” The teleconference lines will be open for the public and the meeting brief will be posted beforehand on the Federal Register site (https://www.federalregister.gov/). If the Federal government is closed, the meeting will be rescheduled.

For information on facilities or services for individuals with disabilities or to request special assistance at the meeting, contact Allison Buchinski, allison.buchinski@associates.dhs.gov, 202-343-4277, as soon as possible.

To facilitate public participation, we are inviting public comment on the issues to be considered by the committee. Comments must be submitted in writing no later than February 10, must be identified by the docket number—DHS-2016-0007, and may be submitted by one of the following methods:

• Federal eRulemaking Portal: http://www.regulations.gov. Follow the instructions for submitting comments.

• Email: Allison Buchinski, allison.buchinski@associates.hq.dhs.gov. Also include the docket number in the subject line of the message.

• Fax: 202-343-4294

• Mail: Allison Buchinski, Department of Homeland Security, OPS CIO-D Stop 0426, 245 Murray Lane SW., Bldg. 410, Washington, DC 20528-0426.

Instructions: All submissions received must include the words “Department of Homeland Security” and the docket number (DHS-2016-0007) for this action. Comments received will be posted without alteration at http://www.regulations.gov, including any personal information provided.

Docket: For access to the docket to read background documents or comments received by the HSINAC go to http://www.regulations.gov and type the docket number DHS-2016-0007 into the “search” field at the top right of the Web site.

A public comment period will be held during the meeting on Tuesday, February 16, 2015 from 2:00-2:15 p.m. Speakers are requested to limit their comments to 3 minutes. Please note that the public comment period may take place before the time indicated, as it will follow the last call for comments from the committee members. Contact one of the individuals listed below to register as a speaker.

FOR FURTHER INFORMATION CONTACT: Designated Federal Officer, Michael Brody, Michael.brody@hq.dhs.gov, 202-282-9464.

SUPPLEMENTARY INFORMATION: The Homeland Security Information Network Advisory Committee (HSINAC) is an advisory body to the Homeland Security Information Network (HSIN) Program Office. This committee provides advice and recommendations to the U.S. Department of Homeland Security (DHS) on matters relating to HSIN. These matters include system requirements, operating policies, community organization, knowledge management, interoperability and federation with other systems, and any other aspect of HSIN that supports the operations of DHS and its Federal, State, territorial, local, tribal, international, and private sector mission partners. Notice of this meeting is given under the Federal Advisory Committee Act, 5 U.S.C. Appendix.

Agenda

The agenda will consist of the following major components.

1. There will be a discussion between the HSIN Program and members of the committee in the following key areas:

a. Welcome new members to the HSINAC through round table introductions and provide an overview of roles and responsibilities.

b. An Introduction to the Information Sharing Environment Office (ISEO)—Provide embers with an overview of the office and HSIN's recent alignment with ISEO and the Office of the Chief Information Officer (OCIO).

c. The State of HSIN—Provide members with a strategic update on HSIN's FY15 accomplishments, challenges, and FY16 outlook.

d. Focused Mission Growth—Members will participate in a facilitated feedback session that will help to ensure HSIN's goals, work effort and business processes are in alignment with and driven by stakeholder needs.

2. HSIN PMO will formally task the HSINAC to offer recommendations on the issue of how HSIN achieves growth in its user base and/or mission application, and the business process enhancements the Program must make to advance its requirements management processes and governance for HSIN's users.

3. HSIN PMO will formally task the HSINAC to offer recommendations on the issue of support for procurement activities around advanced security and cybersecurity testing to ensure protection of the system and its growing user base.

4. HSIN PMO will formally task the HSINAC to offer recommendations on the issue of upcoming infrastructure and system support enhancements with the goal of reducing the risk of system downtime due to aging equipment and older support models, as well as, mitigate funding gaps for these enhancements and future development activities.

5. Public comment period.

6. Committee Deliberation & Voting.

7. Closing Remarks.

8. Adjournment of the meeting.

Dated: January 29, 2016.
James Lanoue,
HSIN Program Director.

[FR Doc. 2016-02029 Filed 2-3-16; 8:45 am]

BILLING CODE 9110-9B-P